NATIONAL SCIENCE FOUNDATION

Sunshine Act Meetings; National Science Board

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

AGENCY HOLDING MEETING: National Science Board.

DATE AND TIME: Thursday, February 2, 2012, from 8:15 a.m. to 5 p.m., and Friday, February 3, from 7:45 a.m. to 2:45 p.m.

PLACE: These meetings will be held at the National Science Foundation, 4201,Wilson Blvd., Room 1235, Arlington, VA 22230. All visitors must contact the Board Office [call (703) 292-7000 or send an email message to nationalsciencebrd@nsf.gov] at least 24 hours prior to the teleconference and provide name and organizational affiliation. All visitors must report to the NSF visitor desk located in the lobby at the 9th and N. Stuart Streets entrance on the day of the teleconference to receive a visitor's badge.

UPDATES: Please refer to the National Science Board Web site www.nsf.gov/nsb for additional information and schedule updates (time, place, subject matter or status of meeting) may be found at http://www.nsf.gov/nsb/notices/.

AGENCY CONTACT: Jennie L. Moehlmann, jmoehlma@nsf.gov, (703) 292-7000.

PUBLIC AFFAIRS CONTACT: Dana Topousis, dtopousi@nsf.gov, (703) 292-7750.

STATUS: Portions open; portions closed.

OPEN SESSIONS:

February 2, 2012

8:15-8:20 a.m.

8:20-9 a.m.

9:45-10:30 a.m.

1-1:45 p.m.

1:45-2:45 p.m.

2:45-3:30 p.m.

3:30-4 p.m.

4-4:45 p.m.

February 3, 2012

7:45-9 a.m.

9-10 a.m.

11-11:30 a.m.

1:30-2:45 p.m.

CLOSED SESSIONS:

February 2, 2012

9-9:45 a.m.

10:30-11:45 a.m.

4:45-5 p.m.

February 3, 2012

10-11 a.m.

12:30-1:20 p.m.

MATTERS TO BE DISCUSSED:

Thursday, February 2, 2012

Committee on Programs and Plans (CPP) and Committee on Strategy and Budget Joint Session

Open Session: 8:20-9 a.m.

• Committee Chairmen's Remarks

• Discussion Item: NSF Annual Facilities Plan

Closed Session: 9-9:45 a.m.

• Discussion Item: NSF Annual Facilities Plan

Committee on Programs and Plans (CPP)

Open Session: 9:45-10:30 a.m.

• Approval of Minutes

• Committee Chairman's Remarks

• Information Item: ALMA Operations Update

• Discussion Item: Status of CPP Program Portfolio Planning

Closed Session: 10:30-11:45 a.m.

• Committee Chairman's Remarks

• Approval of Closed CPP Minutes for December 2011

• NSB Action: Operation of the International Astronomy Observatory

CSB Subcommittee on Facilities (SCF)

Open Session: 1-1:45 p.m.

• Chairman's Remarks

• Approval of minutes from the December 5 and December 13, 2011 meetings

• Discussion of NSF Facilities Plan and upcoming annual Portfolio Review

• Chairman's Closing Remarks

Subcommittee on Polar Issues (SOPI)

Open Session: 1:45-2:45 p.m.

• Chairman's Remarks and Approval of Open Session Minutes, December 2011

• Director's Remarks

• Presentation: U.S. Antarctic Program Blue Ribbon Panel Review

• Presentation: Future Research Opportunities in Antarctica—Report of a National Academy of Sciences/National Research Council study

CPP Task Force on Unsolicited Mid-Scale Research (MS)

Open Session 2:45-3:30 p.m.

• Approval of the November 29, 2011 teleconference minutes and December 13 meeting minutes

• Discussion of the MS Task Force draft report

CSB Task Force on Data Policies (DP)

Open Session: 3:30-4 p.m.

• Chairman's Remarks

• Approval of December 14, 2011 meeting minutes

• Discussion of the Public Comments on the Recommendations

• Discussion of Future Work of the Task Force

• Closing Remarks From the Chairman

Committee on Audit and Oversight (A&O)

Open Session: 4-4:45 p.m.

• Approval of Minutes of the December 2011 Open Session

• Committee Chairman's Opening Remarks

• Inspector General's Update

• Chief Financial Officer's Update

• Human Capital Management Update

• Committee Chairman's Closing Remarks

Committee on Audit and Oversight (A&O)

Closed Session: 4:45-5 p.m.

• Approval of Minutes of the December 2011 Meeting Closed Session

• Committee Chair's Opening Remarks

• Discussion of Procurement Activities

Friday, February 3, 2012

Committee on Education and Human Resources (CEH)

Open Session: 7:45-9 a.m.

• Approval of December 2011 minutes

• Presentation: Effective K-12 STEM Education

• Presentation: Research in Mathematics Education

Committee on Strategy and Budget (CSB)

Open Session: 9-10 a.m.

• Committee Chairman's Remarks

• Approval of December 13, 2011 Open Session minutes

• Task Force on Data Policies Update

• SCF Update

• NSF Merit Review Working Group Recommendations

• Strategic Planning for FY 2012 and beyond

• Cost Sharing

• Closing Remarks

Committee on Strategy and Budget (CSB)

Closed Session: 10-11 a.m.

• Approval of the December 13, 2011 Closed Session Minutes

• Policies and Planning for Budget Processes for FY 2013, FY 2014 and beyond

Committee on Science & Engineering Indicators (SEI)

Open Session: 11-11:30 a.m.

• Approval of December minutes

• Committee Chairman's Remarks

• Report on Rollout of Science and Engineering Indicators 2012

• Status of Indicators Companions

• Discussion of Inventory of Government Programs: Trade, Export, and Competitiveness Pilot

• Chairman's Summary

Plenary Board Meeting

Executive Closed Session: 12:30-1 p.m.

• Approval of Executive Closed Session Minutes, December 2011

• Election of ad hoc Committee on Nominating for NSB Elections

• Discussion of Candidate Sites for 2012 Board Retreat and Off-Site Meeting

• Approval of Honorary Award Recommendations

Plenary Board Meeting

Closed Session: 1-1:20 p.m.

• Approval of Closed Session Minutes, December 2011

• Awards and Agreements (Resolutions), From CPP

• Closed Committee Reports

Plenary Open

Open Session: 1:30-2:45 p.m.

• Approval of Open Session Minutes, December 2011

• Chairman's Report

• Director's Report

• Open Committee Reports

Meeting Adjourns: 2:45 p.m.

Ann Ferrante,
Technical Writer/Editor.

[FR Doc. 2012-2055 Filed 1-26-12; 4:15 pm]

BILLING CODE 7555-01-P